DEPARTMENT OF DEFENSE

Department of the Army; Corps of Engineers

Notice of Intent To Prepare a Draft Environmental Impact Statement on Rock Mining in Wetlands in Levy County, FL

AGENCY: Department of the Army, U.S. Army Corps of Engineers, DoD.

ACTION: Notice of intent.

SUMMARY: The U.S. Army Corps of Engineers (Corps) Jacksonville District intends to prepare a Draft Environmental Impact Statement (DEIS), referred to as the Tarmac King Road Limestone Mine DEIS, to evaluate potential impacts of rock mining within wetlands in southern Levy County, FL.

DATES: The Corps plans to hold two public scoping meetings on or about March 26 and 27, 2008 at 6 p.m. EST.

ADDRESSES: The first meeting will be held on March 26, 2008 at the Inglis Community Center, 137 Highway 40 West, Inglis, FL 34449, (352) 447-2203. The second meeting will be held March 27, 2008 at the Tommy Usher Community Center, 506 Southwest 4th Avenue, Chiefland, FL 32626-0121, (352) 493-6711.

FOR FURTHER INFORMATION CONTACT: Mr. Edward P. Sarfert, (850) 439-9533 or e-mail at edward.p.sarfert@usace.army.mil.

SUPPLEMENTARY INFORMATION: a. Background/Project Authorization. The Corps is preparing this DEIS in accordance with the National Environmental Policy Act (NEPA) of 1969 (42 U.S.C. 4321 et seq.), Council of on Environmental Quality (CEQ) Regulations (40 CFR 1500 et seq.), and Corps provisions for implementing the procedural requirements of NEPA (33 CFR 230, USACE Engineering Regulation ER 200-2-2). A primary purpose of a Corps Regulatory Program EIS is to provide full and fair discussion of the significant environmental impacts of a proposal or project seeking a U.S. Department of Army permit. The Draft and Final EIS are used to inform the public and agency decision-makers of alternatives to an applicant's project that might avoid or minimize adverse impacts or enhance the quality of the human environment. An EIS is not a Corps regulatory decision document. It is used by agency officials in conjunction with other relevant information in a permit application file, including public and agency comments presented in the Final EIS, to support the final decision on a permit application. In this instance, Tarmac America, LLC, has filed a permit application to mine areas that include wetlands within Levy County, FL.

b. Need or Purpose. The purpose of the proposed action is to provide construction-grade aggregate that meets the Florida Department of Transportation specifications for buildings and infrastructure. The proposed mine is to provide this aggregate for Tarmac's and its customers' use in the west central area of Florida. The Corps recognizes that there is a public and private need for this product. The purpose of the proposed DEIS is to evaluate the environmental effects of alternatives to meet these requirements while protecting the aquatic environment.

c. Prior EAs, EISs. None.

d. Alternatives. An evaluation of alternatives, including a No Action alternative and rock mining in other areas both inside and outside of Levy County and/or Florida will be done. The DEIS will analyze reasonable alternatives to obtaining construction grade limestone to meet the purpose and need. Alternatives will be determined through scoping, but are expected to vary according to timing, and breadth of mining, in addition to a “no action” alternative.

e. Issues. The following issues have been identified for analysis in the DEIS. This list is preliminary and is intended to facilitate public comment on the scope of the DEIS. The DEIS will consider the effects on Federally listed threatened and endangered species, health and safety, socioeconomics, aesthetics, general environmental concerns, wetlands (and other aquatic resources), historic properties, cultural resources, fish and wildlife values, land use, transportation, recreation, water supply and conservation, water quality, energy needs, mineral needs, considerations of property ownership, and, in general, the needs and welfare of the people, and other issues identified through scoping, public involvement, and interagency coordination. At the present time, our primary areas of environmental concern are the loss of wetland functions and value, mitigation of such losses, and the effect of proposed mining on groundwater and surface water quality and on transportation. We expect to better define the issues of concern and define the methods that will be used to evaluate those issues through the scoping process.

f. Scoping Process. CEQ regulations (40 CFR 1501.7) require an early and open process for determining the scope of a DEIS and for identifying significant issues related to the proposed action. The public will be involved in the scoping and evaluation process through advertisements, notices, and other means. At a minimum, all parties who have expressed interest in the Tarmac King Road Limestone Mine project will be given the opportunity to participate in this process. Federal, state and local agencies, and other interested groups will also be involved. All parties are invited to participate in the scoping process by identifying any additional concerns on issues, studies needed, alternatives, procedures, and other matters related to the scope of the EIS.

The public scoping meetings are scheduled for (see DATES and ADDRESSES). The Corps will provide additional notification of the meeting time and location through newspaper advertisements and other means. Following a short presentation on the planned DEIS, verbal and written comments on the scope of the DEIS will be accepted. A transcript of verbal comments will be generated to ensure accuracy. To submit comments on the scope of the Tarmac King Road Limestone Mine DEIS or to request copies of materials related to this effort as they become available to the public, contact: Mr. Edward P. Sarfert, U.S. Army Corps of Engineers, Regulatory Division, 41 North Jefferson St., Suite 111, Pensacola, FL 32502-5794, by e-mail at edward.p.sarfert@usace.army.mil, or by telephone at (850) 439-9533.

Comments or requests for information can also be submitted on the Tarmac King Road Limestone Mine EIS Web site at http://www.kingroadeis.com. The Corps will consider all comments for the scope of the DEIS received by April 26, 2008.

g. Public Involvement. The Corps invites Federal agencies, American Indian Tribal Nations, state and local governments, and other interested private organizations and parties to attend the public scooping meeting and to comment on the scope of the planned Tarmac King Road Limestone Mine EIS.

h. Coordination. The proposed action is being coordinated with a number of Federal, state, regional, and local agencies including but not limited to the following: U.S. Fish and Wildlife Service, National Marine Fisheries Service, U.S. Environmental Protection Agency, Florida Department of Environmental Protection, Southwest Florida Water Management District, Florida State Historic Preservation Officer, Levy County, and other agencies as identified in scoping, public involvement, and agency coordination.

i. Other Environmental Review and Consultation. The proposed action would involve evaluation for compliance with guidelines pursuant to Section 404(b) of the Clean Water Act. This review will involve a detailed evaluation of alternatives to rock mining in the King Road area of Levy County, which is not a water dependent activity.

j. Agency Role. The Corps will provide extensive information and assistance on the resources to be impacted, mitigation measures, and alternatives. Although the Corps does not plan to invite any Federal agencies to be cooperating agencies, we expect to receive input and critical information from the U.S. Environmental Protection Agency, the U.S. Fish and Wildlife Service and other federal, state, and local agencies.

k. Tarmac King Road Limestone Mine DEIS Preparation. It is estimated that the DEIS will be available to the public on or about July 2008. At least one additional public meeting will be held at that time, during which the public will be provided the opportunity to comment on the Draft EIS before it becomes final.

Dated: February 8, 2008.
David S. Hobbie,
Chief, Regulatory Division.

[FR Doc. E8-2979 Filed 2-15-08; 8:45 am]

BILLING CODE 3710-AJ-P